DEPARTMENT OF LABOR

Employment and Training Administration

[TA-W-53,365]

Tietex International, Ltd, Rocky Mount Plant, Spartanburg, South Carolina; Notice of Termination of Investigation

Pursuant to section 221 of the Trade Act of 1974, as amended, an investigation was initiated on October 28, 2003 in response to a worker petition filed on behalf of workers at Tietex International, LTD, Rocky Mount Plant, Spartanburg, South Carolina.

Further review of the petition and information provided by one of the petitioners, finds that the Rocky Mount Plant is in Rocky Mount, North Carolina, not Spartanburg, South Carolina. Workers of Tietex International, LTD, Rocky Mount Plant, Rocky Mount, Virginia, are covered under an existing certification to apply for trade adjustment assistance, petition number TA-W-53,273. Consequently, further investigation in this case would serve no purpose, and the investigation has been terminated.

Signed at Washington, DC this 17th day of November, 2003.
Linda G. Poole,
Certifying Officer, Division of Trade Adjustment Assistance.

[FR Doc. 03-31986 Filed 12-30-03; 8:45 am]

BILLING CODE 4510-30-P